FEDERAL MARITIME COMMISSION

Notice of Agreement(s) Filed

The Commission hereby gives notice of the filing of the following agreement(s) under the Shipping Act of 1984. Interested parties can review or obtain copies of agreements at the Washington, DC offices of the Commission, 800 North Capitol Street, N.W., Room 962. Interested parties may submit comments on an agreement to the Secretary, Federal Maritime Commission, Washington, DC 20573, within 10 days of the date this notice appears in the Federal Register.

Agreement No.: 011691-001.

Title: The COSCON/KL/YMUK Mediterranean/U.S. East and Gulf Coast Vessel Sharing Agreement.

Parties:

Cosco Container Lines

Kawasaki Kisen Kaisha, Ltd.

Yangming (U.K.)Ltd.

Synopsis: The proposed modification specifically authorized Cosco to subcharter space it receives from the other two parties to Zim Israel Navigation Company Ltd. The parties request expedited review.

Agreement No.: 011708.

Title: Zim/COSCON Slot Charter Agreement.

Parties:

Zim Israel Navigation Company Ltd.

COSCO Container Lines Co. Ltd.

Synopsis: The proposed Agreement would permit the parties to charter space to one another and enter into related cooperative arrangements in the trade between United States East Coast ports and ports in countries bordering the Mediterranean Sea and inland points via all of the above ports. The parties request expedited review.

By Order of the Federal Maritime Commission.
Dated: May 5, 2000.
Bryant L. VanBrakle,
Secretary.

[FR Doc. 00-11713 Filed 5-9-00; 8:45 am]

BILLING CODE 6730-01-P